COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds to the Procurement List commodities and services to be furnished by nonprofit agencies employing persons who are blind or have other severe disabilities, and deletes from the Procurement List commodities and services previously furnished by such agencies.

EFFECTIVE DATE: May 28, 2001.

ADDRESSES: Committee for Purchase From People Who Are Blind or Severely Disabled, Jefferson Plaza 2, Suite 10800, 1421 Jefferson Davis Highway, Arlington, Virginia 22202-3259.

FOR FURTHER INFORMATION CONTACT: Patrick T. Mooney (703) 603-7740.

SUPPLEMENTARY INFORMATION: On January 26, March 2 and March 9, 2001, the Committee for Purchase From People Who Are Blind or Severely Disabled published notices (66 F.R. 7875, 13041 and 14123) of proposed additions to and deletions from the Procurement List:

Additions

After consideration of the material presented to it concerning capability of qualified nonprofit agencies to provide the commodities and services and impact of the additions on the current or most recent contractors, the Committee has determined that the commodities and services listed below are suitable for procurement by the Federal Government under 41 U.S.C. 46-48c and 41 CFR 51-2.4.

I certify that the following action will not have a significant impact on a substantial number of small entities. The major factors considered for this certification were:

1. The action will not result in any additional reporting, recordkeeping or other compliance requirements for small entities other than the small organizations that will furnish the commodities and services to the Government.

2. The action will not have a severe economic impact on current contractors for the commodities and services.

3. The action will result in authorizing small entities to furnish the commodities and services to the Government.

4. There are no known regulatory alternatives which would accomplish the objectives of the Javits-Wagner-O'Day Act (41 U.S.C. 46-48c) in connection with the commodities and services proposed for addition to the Procurement List. Accordingly, the following commodities and services are hereby added to the Procurement List:

Commodities

Hose, Fire

4210-00-892-5494

4210-01-165-6597

4210-01-166-8122

4210-01-167-1061

Table, Field Operating

6530-01-321-5592

Marker, Dry Erase

7520-00-NIB-1429

7520-00-NIB-1430

7520-00-NIB-1431

7520-00-NIB-1432

7520-00-NIB-1433

7520-00-NIB-1434

7520-00-NIB-1435

7520-00-NIB-1436

Services

Food Service Attendant, Fort Custer Training Center, 2725 27th Street, Augusta, Michigan

Janitorial/Custodial, U.S. Army Reserve Center, Aberdeen Proving Ground, Aberdeen, Maryland

Office Supply Store

Department of Energy

At the following Locations:

1000 Independence Avenue, SW., Washington, DC

19901 Germantown Road, Germantown, Maryland

80300 Century Blvd, Germantown, Maryland

Office Supply Store

Defense Supply Service—Washington

Presidential Towers, Arlington, Virginia

This action does not affect current contracts awarded prior to the effective date of this addition or options that may be exercised under those contracts.

Deletions

I certify that the following action will not have a significant impact on a substantial number of small entities. The major factors considered for this certification were:

1. The action will not result in any additional reporting, recordkeeping or other compliance requirements for small entities.

2. The action will not have a severe economic impact on future contractors for the commodities and services.

3. The action will result in authorizing small entities to furnish the commodities and services to the Government.

4. There are no known regulatory alternatives which would accomplish the objectives of the Javits-Wagner-O'Day Act (41 U.S.C. 46-48c) in connection with the commodities and services deleted from the Procurement List.

After consideration of the relevant matter presented, the Committee has determined that the commodities and services listed below are no longer suitable for procurement by the Federal Government under 41 U.S.C. 46-48c and 41 CFR 51-2.4.

Accordingly, the following commodities and services are hereby deleted from the Procurement List:

Commodities

Stepladder, Fiberglass

5440-01-061-8898

5440-00-061-8900

5440-01-110-7763

5440-01-460-5352

5440-01-460-5363

5440-01-460-5364

Printing and Binding “En Garde” Newsletter

7690-00-NSH-0079

Securities & Exchange Commission Confidential Microfiche

7690-00-NSH-0083

Services

Food Service, Pascagoula Naval Station, Pascagoula, Mississippi

Management of Bachelors Quarters, Pascagoula Naval Station, Pascagoula, Mississippi

Rita L. Wells,
Deputy Executive Director.

[FR Doc. 01-10534 Filed 4-26-01; 8:45 am]

BILLING CODE 6353-01-P